DEPARTMENT OF THE INTERIOR

Office of the Secretary

Privacy Act of 1974, as amended; Notice of a New System of Records

AGENCY: Office of the Secretary, Interior.

ACTION: Notice of Creation of a New Privacy Act System of Records.

SUMMARY: Pursuant to the provisions of the Privacy Act of 1974, as amended, the Department of the Interior is issuing a public notice of its intent to create the Office of the Secretary “Debarment and Suspension Program” system of records. The system contains information including, but not limited to, names and addresses of business entities, organizations and individuals covered by the system of records, evidence and information obtained in support of Action Referral Memoranda and Case Closure Memoranda, action determinations, administrative agreements, and monitoring reviews of debarment or suspension administrative agreements. This newly established system will be included in the Department of the Interior's inventory of record systems.

DATES: Comments must be received by October 3, 2011. This new system will be effective October 3, 2011.

ADDRESSES: Any person interested in commenting on this notice may do so by: submitting comments in writing to the OS/NBC Privacy Act Officer, Office of the Secretary, U.S. Department of the Interior, 1951 Constitution Avenue, NW., Mail Stop 116 SIB, Washington, DC 20240; hand-delivering comments to the OS/NBC Privacy Act Officer, Office of the Secretary, U.S. Department of the Interior, 1951 Constitution Avenue, NW., Mail Stop 116 SIB, Washington, DC 20240; or e-mailing comments to privacy@nbc.gov.

FOR FURTHER INFORMATION CONTACT: Karen Burke, OS/NBC Privacy Act Officer, Office of the Secretary, U.S. Department of the Interior, 1951 Constitution Avenue, NW., Mail Stop 116 SIB, Washington, DC 20240.

SUPPLEMENTARY INFORMATION:

I. Background

The Department of the Interior (DOI) maintains the Debarment and Suspension Program system of records. The primary purpose of this system of records is to assist DOI in conducting and documenting debarment and suspension proceedings to ensure that Federal procurements and Federal discretionary assistance, loans, and benefits are awarded to presently responsible business entities, organizations, and individuals. Additional purposes of the system are: to promote understanding of the case decision path and concerns addressed by the debarring and suspending official in reaching a decision; to promote the submission of relevant arguments in contested cases; to educate the public as to the kinds of mitigating factors and remedial measures that demonstrate present responsibility; and to enhance the transparency of decision making.

The system will be effective as proposed at the end of the comment period (the comment period will end forty (40) days after the publication of this notice in the Federal Register) unless comments are received which would require a contrary determination. DOI will publish a revised notice if changes are made based upon a review of the comments received.

II. Privacy Act

The Privacy Act of 1974, as amended, embodies fair information principles in a statutory framework governing the means by which Federal Agencies collect, maintain, use, and disseminate individuals' personal information. The Privacy Act applies to information that is maintained in a “system of records.” A “system of records” is a group of any records under the control of an agency for which information is retrieved by the name of an individual or by some identifying number, symbol, or other identifying particular assigned to the individual. The Privacy Act defines an individual as a United States citizen or lawful permanent resident. As a matter of policy, DOI extends administrative Privacy Act protections to all individuals. Individuals may request access to their own records that are maintained in a system of records in the possession or under the control of DOI by complying with DOI Privacy Act Regulations, 43 CFR part 2.

The Privacy Act requires each agency to publish in the Federal Register a description denoting the type and character of each system of records that the agency maintains, the routine uses that are contained in each system in order to make agency record keeping practices transparent, to notify individuals regarding the uses of their records, and to assist individuals to more easily find such records within the agency. Below is the description of the DOI Debarment and Suspension Program system of records.

In a notice of proposed rulemaking, which is published separately in the Federal Register, DOI is proposing to exempt records maintained in this system from certain provisions of the Privacy Act pursuant to 5 U.S.C. 552a(k)(2) and (k)(5).

In accordance with 5 U.S.C. 552a(r), DOI has provided a report of this system of records to the Office of Management and Budget and to Congress.

III. Public Disclosure

Before including your address, phone number, e-mail address, or other personal identifying information in your comment, you should be aware that your entire comment, including your personal identifying information, may be made public at any time. While you can ask us in your comment to withhold your personal identifying information from public review, we cannot guarantee that we will be able to do so.

Dated: August 11, 2011.
Karen Burke,
OS/NBC Privacy Act Officer.

SYSTEM NAME:

Debarment and Suspension Program, DOI-11

SYSTEM LOCATION:

Office of Acquisition and Property Management, U.S. Department of the Interior, 1849 C Street, NW., Mail Code 2607-MIB,Washington, DC 20240.

Records may also be located in files maintained by the Office of the Solicitor, Mail Code 6456-MIB, 1849 C Street, NW., Washington, DC 20240, and the Office of Inspector General, Recovery and Oversight Office, Acquisition Integrity Unit, Department of the Interior, 1849 C Street, NW., Mail Stop 4428-MIB, Washington, DC 20240.

CATEGORIES OF INDIVIDUALS COVERED BY THE SYSTEM:

Individuals who have been suspended, proposed for debarment, or debarred from Federal procurement and assistance programs, individuals who have been the subject of Department inquiries to determine whether they should be debarred and/or suspended from Federal procurement and nonprocurement programs, and other individuals whose names appear in the files such as witnesses and investigators.

CATEGORIES OF RECORDS IN THE SYSTEM:

Records include information on business entities, organizations and individuals excluded or considered for exclusion from Federal procurement and nonprocurement programs as a result of suspension or debarment proceedings initiated by DOI. Such information includes, but is not limited to, names and addresses of business entities, organizations, and individuals, evidence obtained in support of Action Referral Memoranda and Case Closure Memoranda, action notices and determinations, tape recordings of oral presentations of matters in opposition in contested actions, administrative agreements entered into resolving debarment or suspension actions, and monitoring reviews of debarment or suspension administrative agreements. Examples of evidence contained in files include correspondence, inspection reports, interview reports, contracts, assistance agreements, indictments, judgment and conviction orders, plea agreements, and other judicial action related documents, and corporate information. Records may include documents containing individuals' names, Social Security Numbers and dates of birth. Computer generated records include data regarding categories and status of cases.

AUTHORITY FOR MAINTENANCE OF THE SYSTEM:

Federal Property and Administrative Services Act of 1949, 41 U.S.C. 251 et seq.; Office of Federal Procurement Policy Act, 41 U.S.C. 401 et seq.; Executive Order 12549 (February 18, 1986); Executive Order 12689 (August 16, 1989); 48 CFR subpart 9.4; 48 CFR 1409.4 et seq.; 2 CFR Part 180; and 2 CFR 1400.137 et seq.

ROUTINE USES OF RECORDS MAINTAINED IN THE SYSTEM, INCLUDING CATEGORIES OF USERS AND THE PURPOSES OF SUCH USES:

The primary purpose of the records in this system of records is to assist DOI in assembling information on, conducting, and documenting, debarment and suspension proceedings to ensure that Federal contracts and Federal assistance, loans, and benefits, are awarded only to presently responsible business entities, organizations, and individuals. Additional purposes of the system are: to promote understanding of the case decision path; promote understanding of the concerns addressed by the debarring and suspending official in reaching a decision; promote the submission of relevant arguments in contested cases; educate the public and private bar as to the kinds of mitigating factors and remedial measures that demonstrate present responsibility; and enhance the transparency of decision making.

The system includes case files and computer generated records developed in connection with initiating and conducting suspension and debarment proceedings under Federal Acquisition Regulation (FAR) 48 CFR subpart 9.4, and part 1409 (procurement) and 2 CFR parts 180 and 1400 (nonprocurement), and in rendering interim and final decisions in such proceedings. Case files are comprised of: (1) The official administrative record maintained by the DOI Office of Acquisition and Property Management (PAM); (2) files compiled by the case representative(s) in the Acquisition Integrity Unit of the DOI Office of the Inspector General, Recovery and Oversight Office, the DOI Office of the Solicitor, or DOI Bureaus in support of suspension and debarment actions; and (3) files developed by DOI to provide documentation for suspension and debarment actions and to conduct monitoring of administrative agreements entered to resolve debarment or suspension actions. Computer generated records include data regarding categories and status of actions. This system of records contains records retrievable by a case docketing system consisting of an assigned sequential case numerical identifier and the name of the business entity, organization, or individual subject to suspension and/or debarment action.

Disclosures outside DOI may be made without the consent of the individual to whom the record pertains under the routine uses listed below:

(1) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, Tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains, or when coordinating on a debarment and suspension action of mutual interest.

(5) To Federal, state, territorial, local, Tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To state and local governments and Tribal organizations to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury to recover debts owed to the United States.

(12) To the news media and the public, upon request, but such disclosures shall be limited to debarment and suspension action case determinations and administrative agreements.

(13) To a consumer reporting agency if the disclosure requirements of the Debt Collection Act, as outlined at 31 U.S.C. 3711(e)(1), have been met.

(14) To the General Services Administration (GSA) to compile and maintain the “Excluded Parties List System” in accordance with FAR 9.404 and 2 CFR part 180, and Federal Awardee Performance and Integrity Information System (FAPIIS).

(15) To business entities, organizations, or individuals suspended, proposed for debarment, or debarred in DOI proceedings and to the legal, or otherwise designated, representatives of such entities, organizations or individuals.

(16) To DOI and other Federal Department or agency contractors, grantees, or volunteers who have been engaged to assist the Government in the performance of a contract, grant, cooperative agreement, or other activity related to this system of records and who need to have access to the records in order to perform the activity.

(17) To representatives of other Federal debarring and suspending agencies to promote understanding and enhanced, consistent, analysis of common issues and arguments, and utilization of best practices for action documents.

(18) To publishers of computerized legal research systems, but such disclosures shall be limited to debarment and suspension action case determinations and administrative agreements.

POLICIES AND PROCEDURES FOR STORING, RETRIEVING, RETAINING AND DISPOSING OF RECORDS IN THE SYSTEM:

STORAGE:

Paper records are contained in file folders stored in file cabinets; electronic records are contained in removable drives, computers, e-mail and electronic databases.

RETRIEVABILITY:

Records are retrieved by name and by assigned sequential official case file numbers.

SAFEGUARDS:

The records contained in this system are safeguarded in accordance with applicable DOI security rules and policies. Records are accessible only by authorized DOI employees. Paper records are secured in file cabinets in areas which are locked during non-duty hours. The DOI server storing this information is located in a secured DOI facility. Access to data in computers is password protected and restricted to suspension and debarment personnel and other DOI employees with an official need for such information. DOI administers annual training on privacy, records management, data security and protection.

RETENTION AND DISPOSAL:

A debarment and suspension case files records retention schedule has been submitted to NARA for scheduling and is pending approval. The disposition is temporary, and the retention will be cut off when the debarment or voluntary exclusion expires or all provisions of the compliance agreement have been completed. Destruction occurs 6 years and 3 months after cut-off.

Paper record disposition methods include burning, pulping, shredding, etc. in accordance with DOI 384 Departmental Manual (DM) 1. Electronic records disposition includes erasing and degaussing in accordance with DOI 384 DM 1.

SYSTEM MANAGER AND ADDRESSES:

Director, Office of Acquisition and Property Management, U.S. Department of the Interior, Mail Code 2607-MIB, 1849 C Street, NW., Washington, DC 20240.

NOTIFICATION PROCEDURES:

The Department of the Interior is proposing to exempt portions of this system from the notification, access, and amendment procedures of the Privacy Act pursuant to sections (k)(2) and (k)(5). DOI will make notification determinations on a case by case basis.

An individual requesting notification of the existence of records on himself or herself should send a signed, written inquiry to the System Manager identified above. The request envelope and letter should both be clearly marked “PRIVACY ACT INQUIRY.” A request for notification must meet the requirements of 43 CFR 2.60.

RECORDS ACCESS PROCEDURES:

The Department of the Interior is proposing to exempt portions of this system from the notification, access, and amendment procedures of the Privacy Act pursuant to sections (k)(2) and (k)(5). DOI will make access determinations on a case by case basis.

An individual requesting records on himself or herself should send a signed, written inquiry to the System Manager identified above. The request should describe the records sought as specifically as possible. The request envelope and letter should both be clearly marked “PRIVACY ACT REQUEST FOR ACCESS.” A request for access must meet the requirements of 43 CFR 2.63.

CONTESTING RECORDS PROCEDURES:

The Department of the Interior is proposing to exempt portions of this system from the notification, access, and amendment procedures of the Privacy Act pursuant to sections (k)(2) and (k)(5). DOI will make amendment determinations on a case by case basis.

An individual requesting corrections or the removal of material from his or her records should send a signed, written request to the System Manager identified above. A request for corrections or removal must meet the requirements of 43 CFR 2.71.

RECORD SOURCE CATEGORIES:

Records in the system are obtained from DOI and other Federal officials, state and local officials, private parties, businesses and other entities, and individuals who may have information relevant to an inquiry, and individuals who have been suspended, proposed for debarment or debarred, and their legal representatives.

SYSTEMS EXEMPTED FROM CERTAIN PROVISIONS OF THE ACT:

The Privacy Act (5 U.S.C. 552a(k)(2) and (k)(5)) provides general exemption authority for some Privacy Act systems. In accordance with that authority, the Department of the Interior adopted regulations, 43 CFR 2.79(a-b).

Pursuant to exemptions 5 U.S.C. 552a (k)(2) and (k)(5) of the Privacy Act, portions of this system of records are exempt from the following subsections of the Privacy Act (as found in 5 U.S.C. 552a): subsections (c)(3), (d), (e)(1), (e)(4)(G) through (e)(4)(I), and (f) of the Privacy Act.

[FR Doc. 2011-21307 Filed 8-19-11; 8:45 am]

BILLING CODE 4310-RF-P